DEPARTMENT OF LABOR

Employment and Training Administration

[TA-W-64,229; TA-W-64,229A]

Hanesbrands, Inc., Formerly Known as Sara Lee Branded Apparel, Including On-Site Leased Workers From Diversco Integrated Services, Eden, NC; Hanesbrands, Inc., Formerly Known As Sara Lee Branded Apparel, Including On-Site Leased Workers From Diversco Integrated Services, Forest City, NC; Notice of Termination of Investigation

March 4, 2009.

Pursuant to Section 221 of the Trade Act of 1974, as amended, an investigation was initiated on October 16, 2008 in response to a worker petition filed by a company official on behalf of workers of Hanesbrands, Inc., Eden, North Carolina (TA-W-64,229) and Hanesbrands, Inc., Forest City, North Carolina (TA-W-64,229A).

Due to existing certifications issued for Hanesbrands, Inc., Eden, North Carolina (TA-W-61,962K) and Hanesbrands, Inc., Forest City, North Carolina (TA-W-61,962L), these certifications have been terminated.

Signed at Washington, DC, this 9th day of December 2008.
Elliott S. Kushner,
Certifying Officer, Division of Trade Adjustment Assistance.

[FR Doc. E9-5177 Filed 3-10-09; 8:45 am]

BILLING CODE 4510-FN-P